DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by August 8, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-057903

Applicant: R.M Bohart Museum of Entomology, University of California, Davis, CA.

The applicant request a permit to export and re-import non-living museum specimens of endangered and threatened species of animals previously accessioned into the applicant's collection for scientific research. This notification covers activities conducted by the applicant for a five-year period.

PRT-056392

Applicant: Jerry Mills, Carrollton, TX.

The applicant requests a permit to import the sport-hunted trophy of one male bontebok (Damaliscus pygargus dorcas) culled from a captive herd maintained under the management program of the Republic of South Africa for the purpose of enhancement of the survival of the species.

PRT-058598

Applicant: Lance Burrow, Georgetown, TX.

The applicant requests a permit to import the sport-hunted trophy of one male bontebok (Damaliscus pygargus dorcas) culled from a captive herd maintained under the management program of the Republic of South Africa for the purpose of enhancement of the survival of the species.

PRT-037014

Applicant: Duke University, Durham, NC.

The applicant requests a permit to import biological samples and salvaged specimens from Brown hyena (Parahyaena brunnea) collected in the wild in Namibia, for scientific research. This notification covers activities conducted by the applicant over a five year period.

Marine Mammals and Endangered Species

The public is invited to comment on the following application for a permit to conduct certain activities with endangered marine mammals. The application was submitted to satisfy requirements of the Marine Mammal Protection Act of 1972, as amended (16 U.S.C. 1361 et seq.), the Endangered Species Act of 1973, as amended (16 U.S.C. 1531, et seq.), and the regulations governing marine mammals (50 CFR Part 18) and endangered species (50 CFR part 17). Written data, comments, or requests for copies of the complete applications or requests for a public hearing on these applications should be submitted to the Director (address above). Anyone requesting a hearing should give specific reasons why a hearing would be appropriate. The holding of such a hearing is at the discretion of the Director.

PRT-038448

Applicant: Iskande L.V. Larkin, University of Florida, Gainesville, FL.

Permit Type: scientific research.

Name and Number of Animals: Florida manatee (Trichechus manatus), 6 females.

Summary of Activity to be Authorized: The applicant requests an amendment and extension to her permit to study the reproductive physiology and indicators of stress by taking and using urine, fecal, blood, and vaginal smear samples from 4 captive-held females to measure steroid and protein reproductive hormone concentrations and glucocorticosteroids. No animals from the wild will be used.

Source of Marine Mammals: 4 captive females as identified by the USFWS, Jacksonville, FL, Fish and Wildlife Office.

Period of Activity: Until 12/31/2003.

PRT-051709

Applicant: University of South Florida, College of Marine Science, St. Petersburg, FL.

Permit Type: Take for scientific research.

Name and Number of Animals: Florida manatee (Trichechus manatus), 250.

Summary of Activity to be Authorized: The applicant requests a permit to conduct passive hydrophone listening to sounds made by manatees and playback vocalizations using a boat at idle speed in the waters of Florida (Sarasota Bay, Matlacha Canals, Crystal River area).

Source of Marine Mammals: wild animals in the waters of Florida.

Period of Activity: Up to 5 years, if issued.

PRT-837923

Applicant: New College of the University of South Florida, Division of Social Sciences, St. Petersburg, FL.

Permit Type: Take for scientific research.

Name and Number of Animals: Florida manatee (Trichechus manatus), 12.

Summary of Activity to be Authorized: The applicant requests an amendment to permit to conduct studies evaluating the ability of manatees to detect chemical compounds (2 animals), and auditory responses ( up to 10 animals).

Source of Marine Mammals: Captive held animals.

Period of Activity: Up to 5 years, if issued.

Concurrent with the publication of this notice in the Federal Register, the Division of Management Authority is forwarding copies of the above applications to the Marine Mammal Commission and the Committee of Scientific Advisors for their review.

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

PRT-672624

Applicant: U.S.G.S., Biological Resources Division, Santa Cruz, CA.

Permit Type: scientific research.

Name and Number of Animals: Southern sea otter (Enhydra lutris nereis); 50.

Summary of Activity to be Authorized: The applicant requests an amendment to the permit to increase the number of animals (from 30 to 50) to be implanted with time-depth recorders.

Source of Marine Mammals: entire range of Southern sea otters in California.

Period of Activity: Up to 2/2/2006.

PRT-046081

Applicant: U.S. Fish and Wildlife Service, Marine Mammal Management, Anchorage, AK.

Permit Type: scientific research.

Name and Number of Animals: polar bear (Ursus maritimus); Variable. Summary of Activity to be Authorized: The applicant requests an amendment to the permit to authorize the paint marking of individual animals for identification purposes to be used in the study of resource utilization.

Source of Marine Mammals: Free ranging.

Period of Activity: Up to five years if authorized.

Concurrent with the publication of this notice in the Federal Register, the Division of Management Authority is forwarding copies of the above applications to the Marine Mammal Commission and the Committee of Scientific Advisors for their review.

PRT-058909

Applicant: K. James Malady, III, Bennington, VT.

The applicant requests a permit to import a polar bear (Ursus maritimus) sport hunted from the Lancaster Sound polar bear population in Canada for personal use.

PRT-054887

Applicant: William Jardel, Palmer, AK.

The applicant requests a permit to import a polar bear (Ursus maritimus) sport hunted prior to May 31, 2000, from the M'Clintock Channel polar bear population in Canada for personal use.

The U.S. Fish and Wildlife Service has information collection approval from OMB through March 31, 2004, OMB Control Number 1018-0093. Federal Agencies may not conduct or sponsor and a person is not required to respond to a collection of information unless it displays a current valid OMB control number.

Dated: June 28, 2002.
Monica Farris,
Senior Permit Biologist, Branch of Permits, Division of Management Authority.

[FR Doc. 02-17065 Filed 7-8-02; 8:45 am]

BILLING CODE 4310-55-P